ENVIRONMENTAL PROTECTION AGENCY

[FRL-6970-8]

Agency Information Collection Activities: Submission for OMB review; Comment Request; Annual Public Water Systems Compliance Report

AGENCY: Environmental Protection Agency (EPA).

ACTION: Notice.

SUMMARY: In compliance with the Paperwork Reduction Act (44 U.S.C. 3501 et seq.), this notice announces that the following Information Collection Request (ICR) has been forwarded to the Office of Management and Budget (OMB) for review and approval: Annual Public Water Systems Compliance Report, EPA ICR number 1812.02, OMB Control Number 2020-0020. The current ICR expires April 30, 2001. The ICR describes the nature of the information collection and its expected burden and cost; where appropriate, it includes the actual data collection instrument.

DATES: Comments must be submitted on or before May 29, 2001.

ADDRESSES: Send comments, referencing EPA ICR No. 1812.02 and OMB Control No. 2020-0020, to the following addresses: Sandy Farmer, U.S. Environmental Protection Agency, Collection Strategies Division (Mail Code 2822), 1200 Pennsylvania Avenue, NW., Washington, DC 20460; and to Office of Information and Regulatory Affairs, Office of Management and Budget (OMB), Attention: Desk Officer for EPA, 725 17th Street, NW., Washington, DC 20503.

FOR FURTHER INFORMATION CONTACT: For a copy of the ICR, call Sandy Farmer at EPA, (202) 260-2740, or download off the Internet at http://www.epa.gov/icr/icr.htm and refer to EPA ICR No. 1812.02. For technical questions about the ICR contact Kenneth Harmon on (202) 564-7049.

SUPPLEMENTARY INFORMATION: Title: Annual Public Water Systems Compliance Report, EPA ICR number 1812.02, OMB Control Number 2020-0020, expiring April 30, 2001. This is a request for extension of a currently approved collection.

Abstract: Section 1414 (c)(3)(A) of the Safe Drinking Water Act requires that each state that has primary enforcement authority under the Act shall prepare, make readily available to the public, and submit to the Administrator of EPA, an annual report of violations of national primary drinking water regulations in the state. The states' reports are to include violations of maximum contaminant levels, treatment requirements, variances and exemptions, and monitoring requirements determined to be significant by the Administrator after consultation with the states. Section 1414(c)(3)(B) of the Safe Drinking Water Act requires EPA to prepare and make available to the public an annual report that summarizes and evaluates the reports submitted by the states pursuant to section 1414(c)(3)(A). EPA's annual national report must also provide specified information about implementation of the public water system supervision system on Indian reservations and make recommendations concerning the resources necessary to improve compliance with the Safe Drinking Water Act. The States have already prepared and published three annual reports. EPA has prepared three national reports and published two. The third annual national report has been prepared and its publication is pending.

An agency may not conduct or sponsor, and a person is not required to respond to, a collection of information unless it displays a currently valid OMB control number. The OMB control numbers for EPA's regulations are listed in 40 CFR part 9 and 48 CFR chapter 15. The Federal Register notice required under 5 CFR 1320.8(d), soliciting comments on this collection of information was published on February 5, 2001 (66 FR 8960); no comments were received.

Burden Statement: The annual public reporting and recordkeeping burden for this collection of information is estimated to average 80 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: States, Tribes, and territories that have primary enforcement authority and meet the definition of “state” under the Safe Drinking Water Act.

Estimated Number of Respondents: 54.

Frequency of Response: Annually.

Estimated Total Annual Hour Burden: 4,300 hours.

Estimated Total Annualized Capital, Operating/Maintenance Cost Burden: 0.

Send comments on the Agency's need for this information, the accuracy of the provided burden estimates, and any suggested methods for minimizing respondent burden, including through the use of automated collection techniques to the following addresses. Please refer to EPA ICR No. 1812.02 and OMB Control No. 2020-0020 in any correspondence.

Dated: April 16, 2001.
Oscar Morales,
Director, Collection Strategies Division.

[FR Doc. 01-10513 Filed 4-26-01; 8:45 am]

BILLING CODE 6560-50-P